DEPARTMENT OF COMMERCE

International Trade Administration

[A-588-804]

Notice of Correction to Amended Final Results of Antidumping Duty Administrative Review: Ball Bearings and Parts Thereof from Japan

AGENCY: Import Administration, International Trade Administration, Department of Commerce.

SUMMARY: On October 21, 2005, the Department of Commerce published in the Federal Register the amended final results of the administrative review of the antidumping duty order on ball bearings and parts thereof from Japan. The period of review is May 1, 2003, through April 30, 2004. Based on the correction of a certain ministerial error, we have changed the margin for Nippon Pillow Block Co., Ltd., for the administrative review of ball bearings and parts thereof from Japan.

EFFECTIVE DATE: November 15, 2005.

FOR FURTHER INFORMATION CONTACT: Yang Jin Chun or Richard Rimlinger, Import Administration, International Trade Administration, U.S. Department of Commerce, 14th Street and Constitution Avenue, NW., Washington, DC 20230; telephone: (202) 482-5760 or (202) 482-4477, respectively.

SUPPLEMENTARY INFORMATION:

Background

On October 21, 2005, the Department of Commerce (the Department) published in the Federal Register the amended final results of the administrative review of the antidumping duty order on ball bearings and parts thereof (ball bearings) from Japan covering the period May 1, 2003, through April 30, 2004 (70 FR 61252) (Amended Final Results Notice).

We received a timely allegation of a ministerial error from Nippon Pillow Block Co., Ltd (NPB). In its comments dated October 26, 2005, NPB alleged that the Department released a correct amended margin percentage for NPB in the Department's October 14, 2005, amended final analysis memorandum but published an incorrect amended margin percentage for NPB in the Amended Final Results Notice. The petitioner did not comment on the alleged ministerial error.

We agree with NPB that the published margin was incorrect. We are now issuing the correct amended margin percentage for NPB in this notice.

Amended Final Results of Review

As a result of the correction of a clerical error, the weighted-average margin for exports of ball bearings by NPB for the period May 1, 2003, through April 30, 2004, is 15.51 percent.

The Department will determine and the U.S. Bureau of Customs and Border Protection (CBP) shall assess antidumping duties on all appropriate entries. We will issue appropriate assessment instructions directly to CBP within 15 days of publication of these amended final results of review. Where the importer-/customer-specific assessment rate or amount is above de minimis, we will instruct CBP to assess duties on all entries of subject merchandise by that importer or for that customer.

We will also direct CBP to collect cash deposits of estimated antidumping duties on all appropriate entries in accordance with the procedures discussed in Ball Bearings and Parts Thereof from France, et al.: Final Results of Antidumping Duty Administrative Reviews, 70 FR 54711 (September 16, 2005), and at the rate as amended by this notice. The amended deposit requirements are effective for all shipments of the subject merchandise entered, or withdrawn from warehouse, for consumption on or after the date these amended final results are published in the Federal Register.

We are issuing and publishing this notice in accordance with sections 751(a)(1) and 777(i) of the Tariff Act of 1930, as amended, and 19 CFR § 351.224(e).

Dated: November 8, 2005.
Stephen J. Claeys,
Acting Assistant Secretary for Import Administration.

[FR Doc. E5-6302 Filed 11-14-05; 8:45 am]

BILLING CODE 3510-DS-S